DEPARTMENT OF THE INTERIOR

Fish and Wildlife Service

Great Dismal Swamp and Nansemond National Wildlife Refuges: Final Comprehensive Conservation Plan and Finding of No Significant Impact

AGENCY: Fish and Wildlife Service, Interior.

ACTION: Notice of availability.

SUMMARY: The U.S. Fish and Wildlife Service (Service) announces that the final Comprehensive Conservation Plan (CCP) is available for Great Dismal Swamp and Nansemond National Wildlife Refuges (NWR). Prepared in conformance with the National Wildlife Refuge System Administration Act of 1966, as amended by the National Wildlife System Improvement Act of 1997, and the National Environmental Policy Act of 1969, the plan describes how the Service intends to manage the refuges over the next 15 years. A Finding of No Significant Impact was approved by the Regional Director.

ADDRESSES: Copies of the CCP is available on compact diskette or in hard copy, and may be obtained by writing Deloras Freeman, Great Dismal Swamp NWR, 3100 Desert Road, Suffolk, Virginia 23434, or by e-mail at deloras_freeman@fws.gov. This document may also be accessed at the Web address http://library.fws.gov/ccps.htm.

FOR FURTHER INFORMATION CONTACT: Deloras Freeman, Refuge Planner at the above address, by phone at 757-986-3705, or by e-mail at deloras_freeman@fws.gov.

SUPPLEMENTARY INFORMATION: The National Wildlife Refuge System Administration Act of 1966, as amended by the National Wildlife Refuge System Improvement Act of 1997 (16 U.S.C. 668dd et seq.), requires the Service to develop a CCP for each refuge within the system. The purpose of developing a CCP is to provide refuge managers with a 15-year strategy for achieving refuge purposes and contributing toward the mission of the National Wildlife Refuge System, consistent with sound principles of fish and wildlife science, conservation, legal mandates, and Service policies. In addition to outlining broad management direction on conserving wildlife and habitats, a CCP identifies wildlife-dependent recreational opportunities available to the public, including opportunities for hunting, fishing, wildlife observation and photography, and environmental education and interpretation. The CCP will be reviewed and updated at least every 15 years in accordance with the National Wildlife Refuge System Administration Act of 1969, as amended by the National Wildlife Refuge System Improvement Act of 1997, and the National Environmental Policy Act of 1969 (42 U.S.C. 4321-4347, as amended).

Established in 1974, Great Dismal Swamp NWR encompasses 111,203 acres, the largest intact remnant of a vast habitat that once covered more than 1 million acres of southeastern Virginia and northeastern North Carolina. Nansemond NWR, established December 12, 1973, is an unstaffed satellite refuge encompassing 423 acres.

Our Final CCP includes management direction for each of the refuges, and details habitat management and public use programs based on the vision for the refuge at the time of its establishment in 1974. We have included the restoration of 8,000 acres of Atlantic white cedar habitat, the restoration of 10,000 acres of red-cockaded woodpecker habitat, and the restoration of a remnant marsh to its original 250 acres from its present 30 acres. We would establish a neotropical migratory bird focus area near Jericho Lane, in which we would focus habitat management and modeling, population surveys, and education and interpretation related to neotropical migratory bird populations. We will implement a limited bear hunt. This hunt will occur on a total of 2 days during November and December, with a total maximum of 100 permits issued. We anticipate a harvest of 11 bears with a harvest limit target of 20 bears. If 10 or more bears are taken the first day, various parameters will be evaluated and the second hunt day may be cancelled. As with the deer hunt, dogs will not be allowed as a means to hunt bears. The bear hunt is currently authorized in the Code of Federal Regulations (50 CFR Part 32), but has never been implemented.

We have also targeted building projects, such as the development of an environmental education site at Jericho Ditch in Suffolk, Virginia. We will also develop an exhibit to be situated at the downtown visitor center that is run by the City of Suffolk. Additionally, we propose the conversion of the current administrative building for a concession operation that will rent kayaks and outdoor equipment and run tours of the swamp, the construction of a new visitor center and headquarters between the old and new Route 17 in Chesapeake, Virginia, and the construction of new trails, observation and photography platforms, or towers. The CCP proposes to enhance environmental education and outreach, and to establish hunter safety and youth hunting programs.

• The Service solicited comments on the draft CCP/EA for Great Dismal Swamp and Nansemond NWRs from March 13 to April 24, 2006 (March 13, 2006, 71 FR 12709). We developed a list of substantive comments that required responses. Editorial suggestions and notes of concurrence with or opposition to certain proposals were noted and included in the decision making process, but did not receive formal responses. The Final CCP includes responses to all substantive comments.

Based upon comments that we received, we have chosen management alternative B, with the following modifications:

• Land Protection: A number of comments expressed support for protection of the Great Dismal Swamp ecosystem, including surrounding lands. Additionally, a comment voiced concern that the wording of Goal 3 did not adequately reflect the refuge purpose as stated in the Dismal Swamp Act. The refuge addressed these comments with the following actions:

(1) Addition of the following strategy to Goal 3: “Develop sound working relationships with adjoining landowners, nearby neighboring landowners, and other key landowners within the ecosystem to protect the integrity of the refuge boundary and further the protection of the ecosystem.” The refuge will take advantage of partnership opportunities around the refuge.

(2) Goal 3 was broadened to better reflect the intent of the enabling legislation and reworded as: “Provide protection and restoration of those areas within Great Dismal Swamp ecosystem that are remnants of the Great Dismal Swamp and/or are restorable to Great Dismal Swamp habitat while providing support to the protection and restoration of all its components and adjacent habitats that directly affect the vitality and viability of the ecosystem.”

• Wildlife Observation: A suggestion was made to develop a through-swamp canoe/kayak trail. This suggestion was adopted. A through-swamp canoe/kayak trail will be developed in Washington Ditch from the existing parking area to Lake Drummond and then via the Feeder Ditch to the Dismal Swamp Canal, and a partnership will be sought to oversee maintenance of the trail.

• Road Improvements: A number of comments about the amount of road paving that was proposed were received. The refuge decided to reduce the amount of paving. The proposed auto tour route and the access to Lake Drummond will remain as gravel roads. Paving will only occur on highest use access roads at Washington Ditch and Jericho Ditch.

Dated: July 26, 2006.
Michael G. Thabault,
Acting Regional Director, U.S. Fish and Wildlife Service, Hadley, Massachusetts.

[FR Doc. E6-13553 Filed 8-16-06; 8:45 am]

BILLING CODE 4310-55-P